SECURITIES AND EXCHANGE COMMISSION

Sunshine Act Meeting

Federal Register Citation of Previous Announcement: [68 FR 53618, September 11, 2003]

Status: Closed meeting.

Place: 450 Fifth Street, NW., Washington, DC.

Date and Time of Previously Announced Meeting: Thursday, September 18, 2003, 10 a.m.

Change in the Meeting: Cancellation of meeting.

The Closed Meeting scheduled for Thursday, September 18, 2003, was cancelled.

For further information please contact: The Office of the Secretary at (202) 942-7070.

Dated: September 23, 2003.
Margaret H. McFarland,
Deputy Secretary.

[FR Doc. 03-24497 Filed 9-24-03; 11:20 am]

BILLING CODE 8010-01-P